COMMITTEE FOR PURCHASE FROM PEOPLE WHO ARE BLIND OR SEVERELY DISABLED

Procurement List; Proposed Additions and Deletion

AGENCY: Committee for Purchase from People Who Are Blind or Severely Disabled.

ACTION: Proposed additions to and deletion from Procurement List.

SUMMARY: The Committee is proposing to add to the Procurement List product and services to be furnished by nonprofit agencies employing persons who are blind or have other severe disabilities, and to delete a service previously furnished by such agencies.

Comments Must Be Received on or Before: June 13, 2004.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a) (2) and 41 CFR 51-2.3. Its purpose is to provide interested persons an opportunity to submit comments on the proposed actions.

Additions: If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

End of Certification

The following products and services are proposed for addition to Procurement List for production by the nonprofit agencies listed:

Products

Product/NSN: Battery Non-rechargeable, Lithium.

6135-01-398-5922,

6135-01-333-6101

NPA: Eastern Carolina Vocational Center, Inc., Greenville, North Carolina

Contract Activity: Defense Supply Center Richmond, Richmond, Virginia

Product/NSN: Flag, National, Interment (Additional 10% of the Department of Veterans Affairs Requirement)

8345-00-656-1432.

NPA: Goodwill Industries of South Florida, Inc., Miami, Florida

NPA: Huntsville Rehabilitation Foundation, Huntsville, Alabama

NPA: North Bay Rehabilitation Services, Inc., Rohnert Park, California

Contract Activity: Department of Veterans Affairs, Washington, DC

Product/NSN: Glow Plug

2920-01-188-3863.

NPA: Shares Inc., Shelbyville, Indiana

Contract Activity: Defense Supply Center Columbus, Columbus, Ohio

Services

Service Type/Location: Custodial Services,

IRS Building,

106 S. 15th Street, Omaha, Nebraska

NPA: Goodwill Specialty Services, Inc., Omaha, Nebraska

Contract Activity: GSA, Public Buildings Service (Region 6), Kansas City, Missouri

Service Type/Location: Custodial Services,

Judiciary Square,

633 3rd Street, NW., Washington, DC

NPA: Melwood Horticultural Training Center, Upper Marlboro, Maryland

Contract Activity: GSA, National Capital Region, Washington, DC

Service Type/Location: Custodial Services,

Key West Naval Air Station, Key West, Florida

NPA: Goodwill Industries of South Florida, Inc., Miami, Florida

Contract Activity: Naval Facilities Engineering Command, North Charleston, South Carolina

Service Type/Location: Janitorial/Custodial,

Naval & Marine Corps Reserve Center, Roanoke, Virginia

NPA: Goodwill Industries of the Valleys, Inc., Salem, Virginia

Contract Activity: Naval Facilities Engineering Command Contracts, Norfolk, Virginia

Deletion

Regulatory Flexibility Act Certification

I certify that the following action will not have a significant impact on a substantial number of small entities. The major factors considered for this certification were:

1. If approved, the action may result in additional reporting, recordkeeping or other compliance requirements for small entities.

2. If approved, the action may result in authorizing small entities to furnish the service to the Government.

3. There are no known regulatory alternatives which would accomplish the objectives of the Javits-Wagner-O'Day Act (41 U.S.C. 46-48c) in connection with the service proposed for deletion from the Procurement List.

End of Certification

The following service is proposed for deletion from the Procurement List:

Service

Service Type/Location: Janitorial/Custodial,

Federal Building & U.S. Post Office, Dyersburg, Tennessee

NPA: Madison Haywood Developmental Services, Jackson, Tennessee

Contract Activity: General Services Administration

Sheryl D. Kennerly,
Director, Information Management.

[FR Doc. 04-10973 Filed 5-13-04; 8:45 am]

BILLING CODE 6353-01-P